ENVIRONMENTAL PROTECTION AGENCY

[OPP-2004-0203; FRL-7363-3]

Committee to Advise on Reassessment and Transition; Request for Nominations for Appointment

AGENCY: Environmental Protection Agency (EPA).

ACTION: Notice.

SUMMARY: EPA's Office of Pesticide Programs is inviting nominations of qualified candidates to be considered for appointment to the EPA-USDA Committee to Advise on Reassessment and Transition (CARAT). The current CARAT Charter expires in June 2004. EPA and the U.S. Department of Agriculture (USDA) intend to renew the CARAT Charter for another 2-year term, July 2004 to July 2006, in accordance with the Federal Advisory Committee Act.

DATES: Nominations must be postmarked no later than July 19, 2004.

ADDRESSES: Nominations may be submitted electronically, by mail, or through hand delivery/courier. Follow the detailed instructions provided in Unit III. of the Supplementary Information.

FOR FURTHER INFORMATION CONTACT: Margie Fehrenbach, Office of Pesticide Programs (7501C), Environmental Protection Agency, 1200 Pennsylvania Ave., NW., Washington, DC 20460; telephone number: (703) 308-4775; fax number: (703) 308-4776; e-mail address:fehrenbach.margie@epa.gov.

SUPPLEMENTARY INFORMATION:

I. General Information

A. Does this Action Apply to Me?

This action is directed to the public in general; however, persons may be interested who work in agricultural settings or persons who are concerned about implementation of the Food Quality Protection Act (Public Law 104-170). Passed in 1996, this law strengthens the nation's system for regulating pesticides on food. CARAT is preceded by the Tolerance Reassessment Advisory Committee which was established in 1998 in order for EPA and USDA to work together to ensure smooth implementation of FQPA. Since other entities may also be interested, the Agency has not attempted to describe all the specific entities that may be affected by this action. Potentially affected entities may include but are not limited to: Agricultural workers and farmers; pesticide industry and trade associations; environmental, consumer and farmworker groups; pesticide users and growers; pest consultants; state, local and tribal governments; academia; public health organizations; food processors; and the public. If you have any questions regarding the applicability of this action to a particular entity, consult the person listed under FOR FURTHER INFORMATION CONTACT.

B. How Can I Get Copies of this Document and Other Related Information?

1. Docket. EPA has established an official public docket for this action under docket identification (ID) number OPP-2004-0203. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

The Food Quality Protection Act, Public Law 104-170, was passed in 1996 to strengthen the nation's system for regulating pesticides on food. The Committee to Advise on Reassessment and Transition, CARAT, is preceded by the EPA-USDA Tolerance Reassessment Advisory Committee (TRAC). Its purpose is to provide advice and counsel to the Administrator of EPA and the Secretary of Agriculture regarding strategic approaches for pest management planning and tolerance reassessment for pesticides as required by FQPA. Through CARAT, EPA and USDA are working together to ensure smooth implementation of FQPA through use of sound science, consultation with stakeholders, increased transparency, and reasonable transition for agriculture.

EPA and USDA intend to appoint members to 1- or 2-year terms. An important consideration in the selection of members will be to maintain balance and diversity of experience and expertise. EPA also intends to seek broad geographic representation from the following sectors: Pesticide industry and trade associations, farmers, environmental/public interest groups, public health officials, pediatric experts, food processors and distributors, academicians, and tribal, state and local government officials.

Copies of the CARAT Charter are filed with appropriate committees of Congress and the Library of Congress and are available upon request.

III. Nomination Submissions

Potential candidates should submit the following information: Name, occupation, organization, position, address, telephone number and a brief resume containing their background, experience, qualifications and other relevant information as part of the consideration process. Any interested person and/or organization may submit the name(s) of qualified persons.

Nominations may be submitted electronically, by mail, or through hand delivery/couier.

1. Electronically. By e-mail:fehrenbach.margie@epa.gov.

2. By mail: Margie Fehrenbach, Designated Federal Officer for CARAT, Office of Pesticide Programs (7501C), Environmental Protection Agency, 1200 Pennsylvania Ave., NW., Washington, DC 20460.

3. By hand delivery/courier. Margie Fehrenbach,Environmental Protection Agency, CM #2, Rm. 1119, 1801 S. Bell St., Arlington, VA 22202, contact phone number: (703) 308-4775.The room at which submissions are accepted is only open until 5 p.m. Uniformed couriers are permitted to deliver directly to the contact person. Non-uniformed couriers will be met at the 1801 S. Bell St. entrance by EPA personnel.

List of Subjects

Environmental protection, Agriculture, Agricultural workers, Chemicals, Fees, Foods, Pesticides, Pests, Registration, Tolerance reassessment, Public health.

Dated: June 21, 2004.
James Jones,
Director, Office of Pesticide Programs.

[FR Doc. 04-14461 Filed 6-24-04; 8:45 am]

BILLING CODE 6560-50-S